DEPARTMENT OF AGRICULTURE

Natural Resources Conservation Service

Notice of Meeting of the Agricultural Air Quality Task Force

AGENCY: Natural Resources Conservation Service (NRCS), USDA.

ACTION: Notice of meeting.

SUMMARY: The Agricultural Air Quality Task Force (AAQTF) will meet to continue discussions on air quality issues relating to agriculture.

DATES: The meeting will convene on Tuesday, February 28, 2006, through Thursday, March 2, 2006. Public comment periods will be held twice on each day, once in the morning, and once in the afternoon. Individuals making oral presentations should register in-person at the venue, and must bring with them 50 copies of material they would like distributed. Written material for AAQTF's consideration prior to the meeting must be received by Dr. Diane E. Gelburd (contact information forthcoming) no later than Thursday, February 23, 2006.

ADDRESSES: The meeting will be held at the Holiday Inn Select, 8120 Wisconsin Avenue, Bethesda, Maryland 20814; telephone: (301) 652-2000.

FOR FURTHER INFORMATION CONTACT: Questions and comments should be directed to Dr. Diane E. Gelburd, Designated Federal Officer. Dr. Gelburd may be contacted at USDA Natural Resources Conservation Service, 1400 Independence Avenue, SW., Room 6158-S, Washington, DC 20250; telephone: (202) 720-2587; e-mail: Diane.Gelburd@wdc.usda.gov.

SUPPLEMENTARY INFORMATION: Notice of this meeting is given under the Federal Advisory Committee Act, 5 U.S.C. App. 2. Additional information concerning AAQTF may be found on the World Wide Web at http://www.airquality.nrcs.usda.gov/AAQTF/.

Draft Agenda of the February 28 through March 2, 2006, Meeting of the AAQTF:

A. Welcome to Bethesda, Maryland.

B. Discussion of Minutes from Previous Meeting.

C. Discussion of Documents to be Approved by the End of the Meeting.

D. Subcommittee Presentations.

1. Emerging Issues Subcommittee Report.

2. Research Subcommittee Report.

3. Policy Subcommittee Report.

4. Education and Outreach Subcommittee Report.

E. Environmental Protection Agency Update.

F. Next Meeting, Time and Place.

G. Public Comments.

(Time will be reserved in the morning and afternoon of each daily session to receive public comments. Individual presentations will be limited to 5 minutes).

Procedural: This meeting is open to the public. At the discretion of the Chair, members of the public may give oral presentations during the meeting. Those persons wishing to make oral presentations should register in person at the venue. Those wishing to distribute written material at the meeting itself, in conjunction with spoken comments, must bring 50 copies of the material with them. Written material for distribution to AAQTF members prior to the meeting must be received by Dr. Gelburd no later than Thursday February 23, 2006.

Information on Services for Individuals with Disabilities: For information on facilities or services for individuals with disabilities, or to request special assistance at the meeting, please contact Dr. Gelburd. The Department of Agriculture (USDA) prohibits discrimination in its programs and activities on the basis of race, color, national origin, gender, religion, age, sexual orientation, or disability. Additionally, discrimination on the basis of political beliefs and marital or family status is also prohibited by statutes enforced by USDA (not all prohibited bases apply to all programs). Persons with disabilities who require alternate means for communication of program information (Braille, large print, audio tape, etc.) should contact the USDA's Target Center at (202) 720-2000 (voice and TDD). USDA is an equal opportunity provider and employer.

Signed in Washington, DC on February 3, 2006.
Bruce I. Knight,
Chief.

[FR Doc. 06-1275 Filed 2-9-06; 8:45 am]

BILLING CODE 3410-16-P